DEPARTMENT OF ENERGY

Federal Energy Regulatory Commission

[Docket No. EC05-40-000, et al.]

Northern Iowa Windpower, LLC, et al.; Electric Rate and Corporate Filings

January 25, 2005.

The following filings have been made with the Commission. The filings are listed in ascending order within each docket classification.

1. Northern Iowa Windpower, LLC; Zilkha MREC Iowa Partners, LLC; Entergy Services, Inc.; Entergy Power Gas Operations Corporation; EWO Wind II, LLC; Shell WindEnergy Inc.

[Docket No. EC05-40-000]

Take notice that on January 18, 2005, Northern Iowa Windpower, LLC, (NIW); Zilkha MREC Iowa Partners, LLC (Zilkha); Entergy Services, Inc. (Entergy Services), as agent for its affiliates, Entergy Power Gas Operations Corporation (EPGOC) and EWO Wind II, LLC (EWO II), each of which hold investments in non-utility generating companies (EPGOC and EWO II, collectively, Entergy Non-Utility Generation); and Shell WindEnergy Inc. (Shell WindEnergy) (collectively, Applicants) filed with the Commission an application for authorization under section 203 of the Federal Power Act for NIW's redemption of Zilkha's 1 percent membership interest in NIW. Applicants state, that as a result of the proposed transaction, Shell WindEnergy and the Entergy Non-Utility Generation will each indirectly own 50 percent of NIW. Applicants, further state that NIW owns an 80 MW wind-powered electric generating facility located in Worth County, Iowa and is authorized by the Commission to sell electricity at market-based rates. Applicants have requested confidential treatment of Exhibit I to the application.

Comment Date: 5 p.m. eastern time on February 8, 2005.

2. Wisconsin Electric Power Company

[Docket No. ER98-855-005]

Take notice that on January 18, 2005, Wisconsin Electric Power Company (Wisconsin Electric) submitted an amendment to its September 27, 2004 filing in response to the Commission's deficiency letter issued December 17, 2004 in Docket No. ER98-855-004.

Wisconsin Electric states that copies of the filing were served on parties on the official service list in Docket No. ER98-855.

Comment Date: 5 p.m. eastern time on February 8, 2005.

3. The Detroit Edison Company

[Docket Nos. ER04-14-005 and EL04-29-005]

Take notice that on January 21, 2005, The Detroit Edison Company (Detroit Edison) submitted a refund report in compliance with the Commission's order issued November 23, 2004 in Docket Nos. ER04-14-000 and EL04-29-000.

Comment Date: 5 p.m. eastern time on February 11, 2005.

4. Mirant Delta, LLC and Mirant Potrero, LLC

[Docket No. ER04-227-001]

Take notice that on January 24, 2005, Mirant Delta LLC and Mirant Potrero, LLC (collectively Mirant) submitted a refund report in compliance with the Commission's letter order issued October 28, 2004 in Docket No. ER04-227-000.

Comment Date: 5 p.m. eastern time on February 14, 2005.

5. New England Power Pool

[Docket No. ER04-433-004]

Take notice that on January 18, 2005, the New England Power Pool (NEPOOL) Participants Committee submitted the one hundred eleventh agreement amending New England Power Pool Agreement to modify NEPOOL's standardized generator interconnection procedures and standardized generator interconnection agreement contained in Schedule 22 of the NEPOOL Tariff in compliance with the order issued by the Commission on November 8, 2004 in Docket No. ER04-433-000, et al. NEPOOL requests an effective date of November 8, 2004.

The NEPOOL Participants Committee states that copies of these materials were sent to the NEPOOL Participants and the New England state governors and regulatory commissions.

Comment Date: 5 p.m. eastern time on February 8, 2005.

6. Midwest Independent Transmission System Operator, Inc.

[Docket No. ER04-458-006]

Take notice that on January 18, 2005, the Midwest Independent Transmission System Operator, Inc. (Midwest ISO) filed an amendment to its November 8, 2004 filing in Docket No. ER04-458-004 of proposed Attachments Y and Z to its open access transmission tariff in accordance with the instructions provided by the Commission in its December 17, 2004 deficiency letter to the Midwest ISO.

The Midwest ISO states that it has electronically served a copy of this filing, with attachments, upon all Midwest ISO Members, Member representatives of Transmission Owners and Non-Transmission Owners, the Midwest ISO Advisory Committee participants, as well as all state commissions within the region. In addition, the Midwest ISO states that the filing has been electronically posted on the Midwest ISO's Web site at http://www.midwestiso.org under the heading “Filings to FERC” for other interested parties in this matter. The Midwest ISO indicates that it will provide hard copies to any interested parties upon request.

Comment Date: 5 p.m. eastern time on February 8, 2005.

7. Oregon Electric Utility Company; Portland General Electric Company; Portland General Term Power; Procurement Company.

[Docket No. ER04-1206-002]

Take notice that on January 18, 2005, Oregon Electric Utility Company (OEUC), Portland General Electric Company (PGE) and Portland General Term Power Procurement Company (PPC), in response to the deficiency letter issued December 17, 2004 in Docket Nos. ER04-1206-000 and 001, submitted an amendment to their September 8, 2004 and September 29, 2004 filings of an application to allow PPC to engage in sales to third parties at market-based rates.

Comment Date: 5 p.m. eastern time on February 4, 2005.

8. Kansas City Power & Light Company

[Docket No. ER05-177-002]

Take notice that on January 18, 2005, Kansas City Power & Light Company (KCPL) submitted a compliance filing pursuant to the Commission's Order issued December 28, 2004 in Docket No. ER05-177-000. KCPL states that this filing pertains to service schedules for the City of Carrollton, Missouri.

KCPL states that copies of the filing were served upon the City of Carrollton, Missouri as well as the Missouri Public Service Commission and the Kansas State Corporation Commission.

Comment Date: 5 p.m. eastern time on February 8, 2005.

9. Kansas City Power & Light Company

[Docket No. ER05-177-003]

Take notice that on January 18, 2005, Kansas City Power & Light Company (KCPL) submitted a compliance filing pursuant to the Commission's order issued December 28, 2004 in Docket No. ER05-177-000. KCPL states that this filing pertains to service schedules for the City of Gardner, Kansas. KCPL requests an effective date of March 30, 2005.

KCPL states that copies of the filing were served upon the City of Gardner, Kansas as well as the Missouri Public Service Commission and the Kansas State Corporation Commission.

Comment Date: 5 p.m. eastern time on February 8, 2005.

10. New England Power Pool

[Docket No. ER05-459-000]

Take notice that on January 18, 2005, the New England Power Pool (NEPOOL) Participants Committee submitted the One Hundred Twelfth Agreement Amending New England Power Pool Agreement to modify NEPOOL's standardized generator interconnection procedures and standardized generator interconnection agreement contained in Schedule 22 of the NEPOOL Tariff. NEPOOL requests an effective date of April 1, 2005.

The NEPOOL Participants Committee states that copies of these materials were sent to the NEPOOL Participants and the New England state governors and regulatory commissions.

Comment Date: 5 p.m. eastern time on February 8, 2005.

11. NorthWestern Corporation

[Docket No. ER05-460-000]

Take notice that on January 18, 2005, NorthWestern Corporation, doing business as NorthWestern Energy, (NorthWestern Energy) tendered for filing an executed generation interconnection agreement between NorthWestern Energy (Montana) and Thompson River Cogen, LLC. NorthWestern Energy requests an effective date of December 17, 2004.

Comment Date: 5 p.m. eastern time on February 8, 2005.

12. Midwest Independent Transmission System Operator, Inc.

[Docket No. ER05-461-000]

Take notice that on January 18, 2005, the Midwest Independent Transmission System Operator, Inc. (Midwest ISO) submitted a Large Generator Interconnection Agreement among the Electric Generation Function of Northern States Power Company d/b/a Xcel Energy, the Transmission Function of Northern States Power Company d/b/a Xcel and the Midwest ISO. Midwest ISO requests an effective date of January 11, 2005.

Midwest ISO states that a copy of this filing was served on the parties to this Interconnection Agreement.

Comment Date: 5 p.m. eastern time on February 8, 2005.

13. PJM Interconnection, L.L.C

[Docket No. ER05-462-000]

Take notice that on January 18, 2005, PJM Interconnection, L.L.C. (PJM) submitted for filing amendments to the PJM open access transmission tariff to provide that small generation interconnections for generator facilities with a maximum generating capacity of 2 MW or less shall be subject to certain technical requirements and standards which shall be posited on PJM's Internet Web site. PJM requests an effective date of March 19, 2005.

PJM states that copies of this filing have been served on all PJM members and the utility regulatory commissions in the PJM region.

Comment Date: 5 p.m. eastern time on February 8, 2005.

14. H.Q. Energy Services (U.S.) Inc

[Docket No. ER05-464-000]

Take notice that, on January 18, 2005, H.Q. Energy Services (U.S.) Inc. (HQUS) submitted an updated market power analysis and revised tariff sheets incorporating the Market Behavior Rules adopted by the Commission in the order issued November 17, 2003 in Docket No. EL01-118-000, 107 FERC ¶ 61,018 (2004).

HQUS states that copies of the filing were served on parties on the official service list in Docket No. ER97-851.

Comment Date: 5 p.m. eastern time on February 8, 2005.

15. ISO New England Inc., et al.; Bangor Hydro-Electric Company, et al,; The Consumers of New England v. New England Power Pool

[Docket Nos. RT04-2-010; ER04-116-010; ER04-157-012; EL01-39-010]

Take notice that on January 14, 2005, ISO New England Inc., (ISO) and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc.; Fitchburg Gas and Electric Light Company; and Unitil Energy Systems, Inc.) submitted a report in compliance with the November 3, 2004 order of the Federal Energy Regulatory Commission, 109 FERC ¶ 61,147 (2004).

ISO states that copies of the filing have been served on all parties to this proceeding, on all NEPOOL Participants (electronically), non-Participant Transmission Customers, and the governors and regulatory agencies of the six New England states.

Comment Date: 5 p.m. eastern time on February 4, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-363 Filed 1-31-05; 8:45 am]

BILLING CODE 6717-01-P